DEPARTMENT OF TRANSPORTATION

Federal Aviation Administration

14 CFR Part 39

[Docket No. 2000-NM-118-AD; Amendment 39-12111; AD 2001-03-07]

RIN 2120-AA64

Airworthiness Directives; Airbus Model A330 and A340 Series Airplanes

AGENCY: Federal Aviation Administration, DOT.

ACTION: Final rule.

SUMMARY: This amendment adopts a new airworthiness directive (AD), applicable to certain Airbus Model A330 and A340 series airplanes, that requires identifying the part and serial numbers of the pressure reducing valve on each air pressurization unit, testing pressure reducing valves and air pressurization units having affected serial numbers, and replacing faulty valves or units with new parts. The actions specified by this AD are intended to prevent the simultaneous failure of two air pressurization units, which could result in loss of three hydraulic circuits and consequent reduced controllability of the airplane. This action is intended to address the identified unsafe condition.

DATES: Effective March 23, 2001.

The incorporation by reference of certain publications listed in the regulations is approved by the Director of the Federal Register as of March 23, 2001.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to certain Airbus Model A330 and A340 series airplanes was published in the Federal Register on December 5, 2000 (65 FR 75877). That action proposed to require identifying the part and serial numbers of the pressure reducing valve on each air pressurization unit, testing pressure reducing valves and air pressurization units having affected serial numbers, and replacing faulty valves or units with new parts.

Comments

Interested persons have been afforded an opportunity to participate in the making of this amendment. No comments were submitted in response to the proposal or the FAA's determination of the cost to the public.

Conclusion

The FAA has determined that air safety and the public interest require the adoption of the rule as proposed.

Cost Impact

The FAA estimates that 5 airplanes of U.S. registry will be affected by this AD.

It will take approximately 1 work hour per airplane to accomplish the required actions, at an average labor rate of $60 per work hour. Based on these figures, the cost impact of this AD on U.S. operators is estimated to be $60 per airplane. However, the FAA has been advised that all affected airplanes currently on the U.S. Register are in compliance with the actions of this AD.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-03-07 Airbus Industrie: Amendment 39-12111. Docket 2000-NM-118-AD.

Applicability: Model A330 and A340 series airplanes, certificated in any category; fitted with any air pressurization unit (“Pressurization Unit, Air” or “PUA”) having part number (P/N) 4020 Q8-3.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent the simultaneous failure of two air pressurization units, which could result in loss of three hydraulic circuits and consequent reduced controllability of the airplane, accomplish the following:

Inspection

(a) Within 500 flight hours after the effective date of this AD, perform a one-time detailed visual inspection to determine the P/N and serial number (S/N) of the pressure reducing valve on each air pressurization unit, per Airbus Service Bulletin A330-29A3073 (for Model A330 series airplanes) or A340-29A4058 (for Model A340 series airplanes), both Revision 01, including Appendix 01, dated April 10, 2000; as applicable.

(1) If no P/N or S/N is identified as affected equipment per the applicable service bulletin, you have fulfilled the requirements of this AD.

(2) If any P/N or S/N is identified as affected equipment per the applicable service bulletin: Prior to further flight, perform applicable tests and repairs in accordance with the applicable service bulletin.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 3: An inspection per Airbus Alert Service Bulletin A330-29A3073, dated January 18, 2000 (for Model A330 series airplanes), or A340-29A4058, dated January 20, 2000 (for Model A340 series airplanes), is acceptable for compliance with the requirements of paragraph (a) of this AD.

Note 4: The Airbus service bulletins refer to Le Bozec Filtration & Systems Service Bulletin 4020Q8-29-03, dated December 17, 1999, as an additional source of service information for accomplishment of the actions specified by this AD.

Spares

(b) As of the effective date of this AD, you may not install any air pressurization unit having P/N 4020 Q8-3 on any airplane, unless all actions have been accomplished for that part in accordance with the requirements of this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 5: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Airbus Service Bulletin A330-29A3073, Revision 01, including Appendix 01, dated April 10, 2000; or Airbus Service Bulletin A340-29A4058, Revision 01, including Appendix 01, dated April 10, 2000; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 6: The subject of this AD is addressed in French airworthiness directives 2000-138-118(B) and 2000-139-143(B), both dated March 22, 2000.

Effective Date

(f) This amendment becomes effective on March 23, 2001.

Issued in Renton, Washington, on February 8, 2001.
Vi L. Lipski,
Manager, Transport Airplane Directorate, Aircraft Certification Service.

[FR Doc. 01-3698 Filed 2-15-01; 8:45 am]

BILLING CODE 4910-13-P